DEPARTMENT OF AGRICULTURE

Forest Service

Nez Perce-Clearwater National Forests; Idaho; Notice To Proceed With Forest Plan Revision

AGENCY: Forest Service, Northern Region, Nez Perce-Clearwater National Forests, USDA.

ACTION: Notice of initiating the development of a proposed forest plan revision for the Nez Perce-Clearwater National Forests.

SUMMARY: The Department of Agriculture (USDA), Forest Service, Northern Region, Nez Perce-Clearwater National Forests have initiated revision of their forest plan pursuant to the 2012 Forest Planning Rule. This process will ultimately result in a Forest Land Management Plan which describes the strategic direction for management of forest resources for the next ten to fifteen years on these National Forests (NFs). The first two phases of the process—preparing an assessment and developing a proposed action for plan revision—have begun. The 2012 Planning Rule requires the Forest Service to notify interested parties of development of a proposed plan or plan revision (36 CFR 219.16(a)(1). This notice meets that requirement. The public may comment on the draft assessment and draft proposed action (draft plan components) through the plan revision Web site at www.fs.usda.gov/main/nezperceclearwater/landmanagement/planning.

DATES: The refined assessment will be available for public input in October 2013. A proposed action, which will be in the format of a plan (including plan components), is expected to be available for public comment in January 2014. A Notice of Intent will be published in the Federal Register pursuant to NEPA at that time. The Draft Environmental Impact Statement (EIS) is anticipated to be available for public review and comment in early 2015 with the Final EIS being available late 2015.

ADDRESSES: Information, including the draft assessment and draft forest plan components (proposed action), is available on the Nez Perce-Clearwater NFs' Web site at: http://www.fs.usda.gov/main/nezperceclearwater/landmanagement/planning. The Web site has a link to a Collaborative Mapping Web site for site based input. Comments can also be sent via email to fpr_npclw@fs.fed.us. Comments are welcome at anytime but comments received prior to August 1, 2013 will be considered in the refined assessment and proposed action.

FOR FURTHER INFORMATION CONTACT: Joyce Thompson, Forest Planning and Public Affairs Staff, (208) 935-4273, email: fpr_npclw@fs.fed.us.

Individuals who use telecommunication devices for the deaf (TDD) may call the Federal Information Relay Service (FIRS) at 1-800-877-8339 between 8 a.m. and 8 p.m., Eastern Time, Monday through Friday.

SUPPLEMENTARY INFORMATION: The National Forest Management Act (NFMA) of 1976 requires that every National Forest System unit develop a land management plan. On April 9, 2012, the Forest Service finalized its land management planning rule (2012 Planning Rule) which implements the NFMA. Forest Plans describe the strategic direction for management of forest resources for ten to fifteen years and are adaptive and amendable as conditions change over time.

Under the 2012 Planning Rule, the assessment of ecological, social, and economic trends and conditions is the first phase of the planning process. Only informal public input is required at this stage (36 CFR 219.16(c)(6)).

The second phase is development of a proposed plan which ultimately includes analysis and a Record of Decision in compliance with the National Environmental Policy Act (NEPA).

The Forest Plan Revision process started on the Nez Perce and Clearwater National Forests in April 2012. An interdisciplinary team was assigned and began working on development of the Forest Plan Assessment.

The Forest worked with University of Idaho staff to develop a strategy on how to engage the public in the Forest Plan Revision process through a collaborative framework and open, transparent process. Five public orientation meetings, cohosted by County Commissioners and facilitated by University of Idaho staff, were held in Grangeville, Orofino, Moscow, and Lewiston, ID and Lolo, MT to:

1. Inform the interested public on our intent to initiate Forest Plan Revision efforts

2. Solicit input on how the Forests could allow for an open, transparent and inclusive public participation process

3. Identify interested members of the public

Interested members of the public participated in a two-day Forest Planning Summit held Oct. 13-14, 2012 in Orofino, ID. The Forest worked with University of Idaho staff to design and facilitate the Summit. The Summit was also cohosted with County Commissioners representing the five counties in which the Nez Perce-Clearwater NFs lay. During the Summit, participants were asked how they wanted to participate in Forest Plan Revision, to what extent they could participate and how they would work together during collaborative participation. A core group of 60-70 interested parties/members of the public identified a process for collaborating with the Nez Perce-Clearwater NFs.

The Summit initiated a process where interested parties/members of the public met monthly in a collaborative learning environment to provide input to the Forest Supervisor and Forest Interdisciplinary Team. The locations of meetings rotated between Grangeville and Orofino, ID with two satellite locations in Missoula, MT and Boise, ID participating via video teleconference. The first meeting occurred in November 2012 in Grangeville, ID with seven subsequent meetings. The Forests will not hold meetings during the summer of 2013 while they review and compile input and perform preliminary analysis. Public collaboration meetings will continue in October 2013.

E-collaboration tools were developed so all interested members of the public could provide input into Forest Plan Revision efforts, not just those individuals who physically participated in collaborative meetings. Public input, whether received through collaborative meetings, e-collaboration or other forms, will be on-going throughout the Forest Plan Revision process. All public input received during collaborative meetings was recorded and will be considered within the final decision, along with input received via e-collaboration and other forms.

The Interdisciplinary Team's refinement of the Forest Plan Assessment is expected to be available to the public in October 2013; however, public input will be accepted and consequently included into the Assessment until the Record of Decision is signed. A detailed proposed action will be available for public comment in January 2014, at which time a Notice of Intent to Prepare an Environmental Impact Statement will be published in the Federal Register.

Dated: June 27, 2013.
Rick Brazell,
Forest Supervisor.

[FR Doc. 2013-16633 Filed 7-10-13; 8:45 am]

BILLING CODE 3410-11-P